DEPARTMENT OF DEFENSE

Department of the Air Force

HQ USAF Scientific Advisory Board

AGENCY: Department of the Air Force, DoD.

ACTION: Notice of meeting.

SUMMARY: Pursuant to Public Law 92-463, notice is hereby given of the forthcoming meeting of the Air Force Scientific Advisory Board. The purpose of the meeting is to kickoff the four approved fiscal year 2005 studies as directed by Air Force leadership. The studies are “Automatic Target Recognition”, “Domain Integrations”, “System of Systems Engineering”, and “Air Force Operations in Urban Environments”. Because classified and contractor-proprietary information will be discussed, this meeting will be closed to the public.

DATES: January 10-14, 2005.

ADDRESSES: 1560 Wilson Blvd, Suite 400, Arlington, VA 22209-2404.

FOR FURTHER INFORMATION CONTACT: Major Kyle Gresham, Air Force Scientific Advisory Board Secretariat, 1180 Air Force Pentagon, Rm 5D982, Washington, DC 20330-1180, (703) 697-4808.

Albert F. Bodnar,
Air Force Federal Register Liaison Officer.

[FR Doc. 04-27275 Filed 12-10-04; 8:45 am]

BILLING CODE 5001-05-M